DEPARTMENT OF LABOR

Employment and Training Administration

[TA-W-61,550]

Linq Industrial Fabrics, Inc. Including Workers Whose Wages Were Paid by Thrace-Linq, Inc. and Texene LLC, Summerville, SC; Amended Certification Regarding Eligibility To Apply for Worker Adjustment Assistance and Alternative Trade Adjustment Assistance

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on August 13, 2007, applicable to workers of LINQ Industrial Fabrics, Inc., Summerville, South Carolina. The notice will be published soon in the Federal Register.

At the request of the State agency, the Department reviewed the certification for workers of the subject firm. The workers were engaged in the production of woven and nonwoven industrial textile fabrics.

New information shows that when LINQ Industrial Fabrics, Inc., closed April 30, 2007, Thrace-LINQ, Inc. and Texene LLC purchased the assets of the subject firm. Workers of the subject firm then became employees of Thrace-LINQ, Inc. and Texene LLC, and their wages were reported under two separate unemployment insurance (UI) tax accounts: Thrace-LINQ, Inc. and Texene LLC.

Accordingly, the Department is amending the certification to properly reflect this matter.

The intent of the Department's certification is to include all workers of LINQ Industrial Fabrics, Inc. who were adversely affected by increased customer imports.

The amended notice applicable to TA-W-61,550 is hereby issued as follows:

All workers of LINQ Industrial Fabrics, Inc., including workers whose wages were paid by Thrace-LINQ, Inc. and Texene LLC, Summerville, South Carolina, who became totally or partially separated from employment on or after April 30, 2006, through August 13, 2009, are eligible to apply for adjustment assistance under Section 223 of the Trade Act of 1974, and are also eligible to apply for alternative trade adjustment assistance under Section 246 of the Trade Act of 1974.

Signed at Washington, DC this 28th day of August 2007.
Richard Church,
Certifying Officer, Division of Trade Adjustment Assistance.

[FR Doc. E7-17477 Filed 9-4-07; 8:45 am]

BILLING CODE 4510-FN-P